DEPARTMENT OF HEALTH AND HUMAN SERVICES

National Institutes of Health

Submission for OMB Review; Comment Request; Program Review of the Division of Acquired Immunodeficiency Syndrome Policy Implementation Program

AGENCY: National Institutes of Health (NIH), Policy, Training, and Quality Assurance Branch (PTQAB), Division of Acquired Immune Deficiency Syndrome (DAIDS), The National Institute of Allergy and Infectious Diseases (NIAID).

SUMMARY: Under the provisions of Section 3507(a)(1)(D) of the Paperwork Reduction Act of 1995, the National Institute of Allergy and Infectious Diseases (NIAID) Office of Science Policy and Planning, the National Institute of Health (NIH) has submitted to the Office of Management and Budget (OMB) a request for review and approval of the information collection listed below. This proposed information collection was previously published in the Federal Register, July 16, 2009 (74 FR 34580), and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: Program Review of the DAIDS Policy Implementation Program Type of Information Collection Request: New. Need and Use of Information: The program review of the Division of AIDS (DAIDS) Implementation Program (DPIP), is to be conducted over a three-year period, and it will provide feedback to aid in the understanding of the target population's knowledge, attitudes, and perceptions of the DAIDS Policy Implementation Program (DPIP). The target population is classified as Extramural Researchers (ERs), who are recipients of funding from DAIDS to conduct and review research. This target population is comprised of Site Leaders of Clinical Research Sites (CRSs) and Research Networks and Clinical Site Monitors of the CTUs and CRSs. The researchers are located globally, and may be part of more than one DAIDS funded research study and/or network. The DPIP is built upon four goals of awareness and accessibility, understandability, applicability, and harmonization of the policies and procedures. The review is to determine DPIP's progression to fulfillment of its program goals. The results of the review will provide DAIDS' Policy, Training, and Quality Assurance Branch (PTQAB) with information to guide optimal deployment of clinical research policies and procedures intended to harmonize, standardize and improve DAIDS funded/sponsored research. The program review will help derive an understanding of whether the DPIP program is implemented and functioning as intended to meet its program goals. Collection/Frequency of Response: Web-based survey; annually (once a year). Focus Group; one time. Affected Public: Extramural Researchers. Type of Respondents: Adult professionals.

The annual reporting burden is provided in the following table:

Type of respondents | Number of respondents | Data collection instrument | Frequency of response | Average time per response | Annual hour burden
Extramural Researchers | 392 | Survey | 3 | 1.0 | 392
|  | Focus Groups | 1 | 2.0 | 261
Totals | 392 |  |  |  | 653

There are no Capital Costs to report. There are no Operating or Maintenance Costs to report.

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriated automated, electronic, mechanical, or other technological collection techniques or other forms of information technology.

FOR FURTHER INFORMATION CONTACT: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact: Ms. Dione Washington, Policy, Training, and Quality Assurance Branch, National Institute of Allergy and Infectious Diseases, NIH, 6700B Rockledge Drive, MSC 7620 Bethesda, MD 20892-7620 United States of America; or e-mail your request, including your address to: washingtondi@niaid.nih.gov.

Comments Due Date: Comments regarding this information collection are best assured of having their full effect if received within 30-days of the date of this publication.

Dated: September 24, 2009.
Judith Brooks,
Branch Chief, Policy, Training, and Quality Assurance Branch, NIAID, National Institutes of Health.

[FR Doc. E9-23784 Filed 10-1-09; 8:45 am]

BILLING CODE 4140-01-P